NATIONAL TRANSPORTATION SAFETY BOARD

Investigative Hearing

On Wednesday, November 6, 2013, and Thursday, November 7, 2013, the National Transportation Safety Board (NTSB) will convene an investigative hearing to gather additional factual information for the ongoing investigation into two Metro-North Railroad accidents that occurred in May 2013. The NTSB Chairman Deborah A.P. Hersman will preside over the Investigative Hearing.

On Friday, May 17, 2013, at 6:01 p.m. eastern daylight time, eastbound Metro-North Railroad passenger train 1548, (departing Grand Central Station, NY toward New Haven, CT) derailed near milepost 53.3 on track number 4 and was struck by westbound Metro-North Railroad passenger train 1581 (departing New Haven toward Grand Central Station). As a result of the collision, 73 passengers, two engineers, and a conductor were transported to local hospitals with injuries. Metro-North estimated there were about 250 passengers on each train at the time of the accident. Metro-North estimated damage at $18.5 million.

On Tuesday, May 28, 2013, at 11:57 a.m. eastern daylight time, Metro-North Railroad passenger train 1559, traveling westbound at 70 mph, struck and killed a track foreman working on the Metro-North New Haven Line, Subdivision 7, in West Haven, CT. The accident occurred at milepost 69.58 on main track 1. The track foreman's planned work for the day consisted of relocating rail segments from main track 1 to industrial track 5 between control points 266 and 271 near the West Haven Station using a locomotive crane. There were two rail traffic controllers (RTCs) assigned to Division G, the Division where the track foreman was working: (1) A qualified RTC and (2) a student RTC, who was training under the mentorship of the qualified RTC. The student RTC was receiving on-the-job training and was the RTC who applied the blocking devices for this work crew and issued the working authority, thus taking the track out-of-service.

As a result of the West Haven accident, on June 17, 2013, the Board released an urgent recommendation to Metro-North to require redundant protection, such as shunting, for maintenance-of-way work crews who depend on the train dispatcher to control access to occupied sections of track. A shunt is a device that crews can attach to the rails in a work zone to alert the controller and provides approaching trains a stop signal.

The investigative hearing will discuss the following issue areas:

• Adequacy of existing Federal track inspection standards, and the adequacy of Metro-North's track maintenance and inspection program;

• Adequacy of existing Federal passenger car safety standards emphasizing `forward end' car requirements, and the crashworthiness of Metro-North's M8 railcars emphasizing the rear (B) end corner post and truck attachment;

• Metro-North's operational protection of track work areas; and

• Metro-North's organizational safety culture.

Parties to the hearing include the Federal Railroad Administration, State of Connecticut Department of Transportation, Metro-North Railroad, Metropolitan Transportation Authority Police Department, Association of Commuter Railroad Employees, Kawasaki Rail Car, Brotherhood of Maintenance of Way Employees, Sheet Metal and Rail Transportation Employees, and the Brotherhood of Locomotive Engineers and Trainmen.

At the start of the hearing, the public docket will be opened. Included in the docket are photographs, interview transcripts, and numerous other documents.

Order of Proceedings

1. Opening Statement by the Chairman of the Board of Inquiry

2. Introduction of the Board of Inquiry and Technical Panel

3. Introduction of the Parties to the Hearing

4. Introduction of Exhibits by Hearing Officer

5. Overview of the incident and the investigation by Investigator-In-Charge

6. Calling of Witnesses by Hearing Officer and Examination of Witness by Board of Inquiry, Technical Panel, and Parties

7. Closing Statement by the Chairman of the Board of Inquiry

The hearing docket is DCA13MR003.

The Investigative Hearing will be held in the NTSB Board Room and Conference Center, located at 429 L'Enfant Plaza E. SW., Washington, DC, Wednesday, November 6, and Thursday, November 7, 2013, beginning at 9:00 a.m. The public can view the hearing in person or by live webcast at www.ntsb.gov. Webcast archives are generally available by the end of the next day following the hearing, and webcasts are archived for a period of 3 months from after the date of the event.

Individuals requesting specific accommodations should contact Ms. Rochelle Hall at (202) 314-6305 or by email at Rochelle.Hall@ntsb.gov by Friday, November 1, 2013.

NTSB Media Contact: Mr. Terry Williams—terry.williams@ntsb.gov.

NTSB Investigative Hearing Officer: Mr. Mike Flanigon—mike.flanigon@ntsb.gov.

Dated: October 21, 2013.
Candi R. Bing,
Federal Register Liaison Officer.

[FR Doc. 2013-25157 Filed 10-24-13; 8:45 am]

BILLING CODE 7533-01-P